DEPARTMENT OF TRANSPORTATION

Federal Highway Administration

Environmental Impact Statement: York & Lancaster Counties, South Carolina

AGENCY: Federal Highway Administration (FHWA), DOT.

ACTION: Notice of Intent.

SUMMARY: The FHWA is issuing this notice to advise the public that an environmental impact statement (EIS) will be prepared for a proposed highway facility from the intersection of S.C. 122 (Dave Lyle Boulevard) and S.C. Route 161 Extension east of Rock Hill in York County to near U.S. Route 521 in Lancaster County, South Carolina. An earlier notice had been published in 1992 but the EIS was not completed due to insufficient project funding.

FOR FURTHER INFORMATION CONTACT: Kenneth R. Myers, Planning & Environmental Engineer, Federal Highway Administration, 1835 Assembly Street, Suite 1270, Strom Thurmond Federal Building, Columbia, South Carolina 29201, Telephone: (803) 253-3881.

SUPPLEMENTARY INFORMATION: The FHWA, in cooperation with the South Carolina Department of Transportation (SCDOT), will prepare an environmental impact statement on the proposed extension of Dave Lyle Boulevard (S.C. route 122) from the S.C. route 161 Extension east of Rock Hill in York County to U.S. route 521 in Lancaster County, South Carolina. The proposed route would be approximately 10 miles in length and would consist of two travel lanes for each direction of traffic with an earth median. Alternatives under consideration include: (1) taking no action (no-build); (2) Transportation System Management (improvement of existing routes); and (3) several alternative corridor alignment build alternatives.

The FHWA and SCDOT are seeking input as a part of the scoping process to assist in determining and clarifying issues relative to this project. Letters describing the proposed action and soliciting comments have been sent by the SCDOT to appropriate Federal, State, and local agencies, and to private organizations and citizens who have previously expressed or are known to have interest in this proposal. No formal scoping meeting is planned at this time. Early coordination with State and Federal permit and resource agencies will be completed in the development of the draft EIS. The U.S. Corps of Engineers is being requested to be a cooperating agency due to the likely involvement of the proposal with wetlands in the Catawba River flood plain area. Two public informational meetings have been held to inform the public and solicit their input. At least one location public hearing will be held for which public notice will be given of the time and place of the hearings. The draft EIS will be available for public and agency review and comment prior to the public hearing.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: March 7, 2000.
Robert L. Lee,
Division Administrator, Columbia, South Carolina.

[FR Doc. 00-6463 Filed 3-15-00; 8:45 am]

BILLING CODE 4910-22-M